DEPARTMENT OF TRANSPORTATION

Federal Aviation Administration

Eighth Meeting: RTCA Special Committee 222 Inmarsat Aeronautical Mobile Satellite (Route) Services

AGENCY: Federal Aviation Administration (FAA), U.S. Department of Transportation (DOT).

ACTION: Notice of RTCA Special Committee 222, Inmarsat Aeronautical Mobile Satellite (Route) Services meeting.

SUMMARY: The FAA is issuing this notice to advise the public of a meeting of RTCA Special Committee 222, Inmarsat Aeronautical Mobile Satellite (Route) Services for the Eighth Meeting.

DATES: The meeting will be held November 17, 2011, from 1-5 p.m.

ADDRESSES: The meeting will be held at Inmarsat, 1101 Connecticut Avenue, NW., Suite 1200, Washington, DC 20036.

FOR FURTHER INFORMATION CONTACT: The RTCA Secretariat, 1150 18th Street, NW., Suite 910, Washington, DC 20036, or by telephone at (202) 833-9339, fax at (202) 833-9434, or Web site at http://www.rtca.org.

SUPPLEMENTARY INFORMATION: Pursuant to section 10(a) (2) of the Federal Advisory Committee Act (Pub. L. 92-463, 5 U.S.C., App.), notice is hereby given for a Special Committee 222, Inmarsat Aeronautical Mobile Satellite (Route) Services. The agenda will include the following:

Agenda

November 17, 2011

• Co-Chair Welcomes & Introductions

• Review of Minutes of previous meeting

• Review of topics for current agenda

• Review of current industry status

• Review of status from briefing to PMC in March 2011.

• Discuss of PMC request to prepare generic GOLD-based document.

• Discuss update to terms of reference to be submitted to PMC

• Review of suggested modifications to MOPS (DO-210 and DO-262 SBB technique-specific) testing and qualification.

• Review of any new MASPS material.

• Review of any working papers

• Discussion of work plan

• Discussion of next meeting

• Adjourn

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC, on October 21, 2011.
Robert L. Bostiga,
Manager, RTCA Advisory Committee.

[FR Doc. 2011-27707 Filed 10-25-11; 8:45 am]

BILLING CODE 4910-13-P